DEPARTMENT OF ENERGY

Federal Energy Regulatory Commission

[Docket No. ER96-1551-013; ER96-1551-014; ER96-1551-015; ER01-615-009; ER01-615-010; ER01-615-011; EL05-2-000]

Public Service Company of New Mexico; Notice of Technical Conference and Denial of Motion for Extension of Time

June 9, 2006.

On June 6, 2006, Public Service Company of New Mexico (PNM) filed a motion requesting that the Commission convene a technical conference to discuss issues related to the possible mitigation of PNM's market-based rates in the El Paso Electric Company (El Paso) control area as provided for in an order issued on April 21, 2006, in these proceedings.¹ PNM also asks the Commission to grant a 30-day extension of time to comply with Ordering Paragraph C of the April 21 Order.

¹ Public Service Company of New Mexico, 115 FERC ¶ 61,090 (2006) (April 21 Order).

PNM's motion for technical conference is granted. However, PNM's motion for extension of time to comply with the April 21 Order is denied.

Take notice that the Federal Energy Regulatory Commission will hold a technical conference to discuss mitigation for the El Paso control area. This technical conference will be held on June 14, 2006, in Hearing Room 2 of the Federal Energy Regulatory Commission, 888 First Street, NE., Washington, DC, from approximately 9 a.m. until approximately 1 p.m. (EST).

Federal Energy Regulatory Commission conferences are accessible under section 508 of the Rehabilitation Act of 1973. For accessibility accommodations please send an e-mail to accessibility@ferc.gov or call toll free (866) 208-3372 (voice) or 202-208-1659 (TTY), or send a FAX to 202-208-2106 with the required accommodations.

All interested parties and staff are permitted to attend the technical conference. For additional information regarding the meeting, please contact Cynthia Henry at Cynthia.Henry@ferc.gov no later than 5 p.m. (EST), Tuesday, June 13, 2006.

Magalie R. Salas,
Secretary.

[FR Doc. E6-9390 Filed 6-15-06; 8:45 am]

BILLING CODE 6717-01-P